DEPARTMENT OF AGRICULTURE

Public Availability of the Department of Agriculture FY 2010 Service Contract Inventory

AGENCY: Office of Procurement and Property Management, USDA.

ACTION: Notice of public availability of FY 2010 Service Contract inventories.

SUMMARY: In accordance with Section 743 of Division C of the Consolidated Appropriations Act of 2010 (Pub. L. 111-117), Department of Agriculture is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. Department of Agriculture has posted its inventory and a summary of the inventory on the Office of Procurement and Property Management homepage at the following link: http://www.dm.usda.gov/procurement/.

FOR FURTHER INFORMATION CONTACT: Questions regarding the service contract inventory should be directed to Mrs. Dorothy Lilly in the Procurement Policy Division, of OPPM at 202-690-2064 or Dorothy.Lay@dm.usda.gov.

Dated: January 25, 2011.
Dorothy Lilly,
Division Chief for Procurement Policy, Departmental, Office of Procurement and Property Management.

[FR Doc. 2011-2137 Filed 2-1-11; 8:45 am]

BILLING CODE 3410-96-P